SECURITIES AND EXCHANGE COMMISSION

Sunshine Act Meetings

TIME AND DATE: Notice is hereby given, pursuant to the provisions of the Government in the Sunshine Act, Public Law 94-409, that the Securities and Exchange Commission staff will hold a public roundtable on Thursday, March 27, 2025, at 9 a.m.

PLACE: The roundtable will be held in the Auditorium at the Commission's headquarters, 100 F Street NE, Washington, DC.

STATUS: The meeting will begin at 9 a.m. and will be open to the public. Seating will be on a first-come, first-served basis. Doors will open at 8 a.m. Visitors will be subject to security checks. The meeting will be webcast on the Commission's website at www.sec.gov.

MATTERS TO BE CONSIDERED: The Commission staff will host a roundtable on artificial intelligence in the financial industry. The roundtable is open to the public and the public is invited to submit written or electronic feedback. This Sunshine Act notice is being issued because a majority of the Commission may attend the roundtable.

The roundtable will provide an opportunity for SEC staff to hear the views of market participants, academics, and industry professionals on the risks, benefits, and governance of artificial intelligence in the financial industry.

CONTACT PERSON FOR MORE INFORMATION: For further information, please contact Vanessa A. Countryman from the Office of the Secretary at (202) 551-5400.

Authority: 5 U.S.C. 552b.

Dated: March 20, 2025.
Vanessa A. Countryman,
Secretary.

[FR Doc. 2025-05033 Filed 3-20-25; 4:15 pm]

BILLING CODE 8011-01-P